DEPARTMENT OF TRANSPORTATION

Federal Aviation Administration

14 CFR Part 39

[Docket No. FAA-2022-1650; Project Identifier MCAI-2022-00210-T; Amendment 39-22939; AD 2025-02-06]

RIN 2120-AA64

Airworthiness Directives; Airbus Canada Limited Partnership (Type Certificate Previously Held by C Series Aircraft Limited Partnership (CSALP); Bombardier, Inc.) Airplanes

AGENCY: Federal Aviation Administration (FAA), DOT.

ACTION: Final rule.

SUMMARY: The FAA is adopting a new airworthiness directive (AD) for certain Airbus Canada Limited Partnership Model BD-500-1A10 and BD-500-1A11 airplanes. This AD was prompted by a report that the nose radome lightning diverter strips on certain aircraft were painted in production; paint on the diverter strips can compromise the nose radome lightning protection. This AD requires inspecting for paint on the diverter strips on the nose radome, and replacing the nose radome if necessary, as specified in a Transport Canada AD, which is incorporated by reference. The FAA is issuing this AD to address the unsafe condition on these products.

DATES: This AD is effective April 9, 2025.

The Director of the Federal Register approved the incorporation by reference of certain publications listed in this AD as of April 9, 2025.

ADDRESSES:

AD Docket: You may examine the AD docket at regulations.gov under Docket No. FAA-2022-1650; or in person at Docket Operations between 9 a.m. and 5 p.m., Monday through Friday, except Federal holidays. The AD docket contains this final rule, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For Transport Canada material identified in this AD, contact Transport Canada, Transport Canada National Aircraft Certification, 159 Cleopatra Drive, Nepean, Ontario K1A 0N5, Canada; telephone 888-663-3639; email TC.AirworthinessDirectives-Consignesdenavigabilite.TC@tc.gc.ca; website at tc.canada.ca/en/aviation.

• For Airbus Canada Limited Partnership material identified in this AD, contact Airbus Canada Limited Partnership, 13100 Henri-Fabre Boulevard, Mirabel, Québec, J7N 3C6, Canada; telephone 450-476-7676; email a220_crc@abc.airbus; website a220world.airbus.com.

• You may view this material at the FAA, Airworthiness Products Section, Operational Safety Branch, 2200 South 216th St., Des Moines, WA. For information on the availability of this material at the FAA, call 206-231-3195. It is also available at regulations.gov under Docket No. FAA-2022-1650.

FOR FURTHER INFORMATION CONTACT: Steven Dzierzynski, Aviation Safety Engineer, FAA, 1600 Stewart Avenue, Suite 410, Westbury, NY 11590; telephone 516-228-7300; email 9-avs-nyaco-cos@faa.gov.

SUPPLEMENTARY INFORMATION:

Background

The FAA issued a notice of proposed rulemaking (NPRM) to amend 14 CFR part 39 by adding an AD that would apply to certain Airbus Canada Limited Partnership Model BD-500-1A11 airplanes. The NPRM published in the Federal Register on December 20, 2022 (87 FR 77763) (the NPRM). The NPRM was prompted by AD CF-2022-04, dated February 14, 2022, issued by Transport Canada, which is the aviation authority for Canada (Transport Canada AD CF-2022-04) (also referred to as the MCAI). The MCAI states that the nose radome lightning diverter strips on certain aircraft were painted in production; paint on the diverter strips can compromise the nose radome lightning protection. Reduced effectiveness of the diverter strips can lead to the puncture of the nose radome by lightning and potential arc attachment to antennas, structures, and other equipment in the area of the nose radome.

In the NPRM, the FAA proposed to require inspecting for paint on the diverter strips on the nose radome, and replacing the nose radome if necessary, as specified in Transport Canada AD CF-2022-04. The FAA is issuing this AD to address the unsafe condition on these products. The unsafe condition, if not addressed, could result in damage to the localizer or glideslope antennas, and consequent loss of instrument landing system localizer inputs or deviation information.

The FAA issued a supplemental notice of proposed rulemaking (SNPRM) to amend 14 CFR part 39 by adding an AD that would apply to certain Airbus Canada Limited Partnership Model BD-500-1A11 airplanes. The first SNPRM published in the Federal Register on July 14, 2023 (88 FR 45102) (the first SNPRM). The first SNPRM was prompted by the FAA determination that the affected nose radomes may be installed as rotable spares on airplanes outside of the applicability of the NPRM. In the first SNPRM, the FAA proposed to expand the applicability to apply to airplanes equipped with specific part numbers and serial numbers of nose radomes. The FAA issued a second SNPRM that would apply to certain Airbus Canada Limited Partnership Model BD-500-1A10 and BD-500-1A11 airplanes. The second SNPRM published in the Federal Register on February 20, 2024 (89 FR 12788) (the second SNPRM). The second SNPRM was prompted by the FAA determination that the affected nose radomes may be installed as rotable spares on Airbus Canada Limited Partnership Model BD-500-1A10 airplanes. In the second SNPRM, the FAA proposed to expand the applicability to include Model BD-500-1A10 airplanes equipped with specific part numbers and serial numbers of nose radomes. The FAA is issuing this AD to address the unsafe condition on these products.

You may examine the MCAI in the AD docket at regulations.gov under Docket No. FAA-2022-1650.

Discussion of Final Airworthiness Directive

Comments

The FAA received comments from two commenters, including Delta Air Lines (Delta) and JetBlue Airways (JetBlue). The following presents the comments received on the second SNPRM and the FAA's response to each comment.

Request To Revise Heading of Paragraph (h) of the Proposed AD

Delta requested that the heading of paragraph (h) of the proposed AD be changed to “Exceptions to Transport Canada AD CF-2022-04” since there is more than one exception listed in paragraph (h) of the proposed AD.

The FAA agrees for the reason provided and has changed this AD accordingly.

Request To Add Exceptions To Allow Use of Alternative Service Information

Delta also requested revising paragraph (h) of the proposed AD to add the following exceptions: (1) where Transport Canada AD CF-2022-04 specifies removing and installing nose radomes using certain aircraft maintenance publication data modules, allow a repair of affected nose radomes by replacing the lightning diverter strips with new, unpainted lightning diverter strips in accordance with (Airbus Canada Limited Partnership) A220 (Aircraft Structure Repair Publication (ASRP)) Task BD500-A-J53-81-80-01AAA-664A-A, Issue 004, dated January 17, 2024 (ASRP Task BD500-A-J53-81-80-01AAA-664A-A); and (2) where Airbus Canada Limited Partnership A220 Service Bulletin (SB) BD500-538009, Issue 002, dated June 2, 2022 (SB BD500-538009, Issue 002) specifies to remove and discard the nose radomes, allow a repair of removed nose radomes by replacing the lightning diverter strips with new, unpainted lightning diverter strips, in accordance with ASRP Task BD500-A-J53-81-80-01AAA-664A-A. Delta pointed out that paragraph (g) of the proposed AD requires accomplishment of Transport Canada AD CF-2022-04 to address the unsafe condition, but Transport Canada AD CF-2022-04 does not provide direct corrective action for nose radomes with painted lighting diverter strips. Delta observed that paragraph (h)(2) of the proposed AD allows use of SB BD500-538009, Issue 002, which directs operators to discard the removed nose radome. Meanwhile, Delta reasoned that paragraph (i) of the proposed AD does suggest that a method of making an affected nose radome safe is intended to exist, stating that the affected nose radomes may be installed only if “the actions required by paragraph (g) of this AD have been accomplished on the nose radome.” Delta further remarked that, unfortunately, no actions for resolving the unsafe condition on the nose radome exist in either paragraph (g) of the proposed AD or in Transport Canada AD CF-2022-04. Paragraph (g) of the proposed AD refers to the differences outlined in paragraph (h) of the proposed AD, however Delta asserted paragraph (h) of the proposed AD provides no relief. Therefore, because removal of the painted lighting diverter strips from the nose radome and replacement with new, unpainted diverter strips resolves the unsafe condition addressed in the second SNPRM, Delta asserted that ASRP Task BD500-A-J53-81-80-01AAA-664A-A exists explicitly to complete “radome, diverter strip replacement” and should be identified in the second SNPRM.

The FAA agrees for the reasons provided. ASRP Task BD500-A-J53-81-80-01AAA-664A-A provides the Airbus Canada-approved generic-repair procedure for the replacement of the diverter strips installed on the nose radome and can be used by any operator. Therefore, paragraphs (h)(3) and (4) have been added to this AD to allow repair of nose radomes by replacement with new, unpainted diverter strips in accordance with ASRP Task BD500-A-J53-81-80-01AAA-664A-A.

Request To Explicitly Allow Post-Repair Installation of Affected Nose Radomes

JetBlue requested paragraph (i) of the proposed AD be revised to allow the affected nose radome serial numbers to be installed on other airplanes after the diverter strips are replaced using ASRP Task BD500-A-J53-81-80-01AAA-664A-A. JetBlue pointed out that this is not explicitly stated in either Transport Canada AD CF-2022-04 or SB BD500-538009, Issue 002, but the available repair in the ASRP task will make the nose radome that was removed and replaced serviceable with new diverter strips (without paint) as Airbus Canada confirmed with JetBlue Engineering.

The FAA agrees with the request to allow affected nose radome serial numbers to be installed on an airplane after the diverter strips are replaced using ASRP Task BD500-A-J53-81-80-01AAA-664A-A. ASRP Task BD500-A-J53-81-80-01AAA-664A-A provides the Airbus Canada-approved generic repair procedure for the replacement of the diverter strips installed on the nose radome and can be used by any operator. However, the FAA does not agree to revise paragraph (i) of this AD. Instead, as previously explained, the FAA has added paragraphs (h)(3) and (4) to this AD allowing use of ASRP Task BD500-A-J53-81-80-01AAA-664A-A. Therefore, using ASRP Task BD500-A-J53-81-80-01AAA-664A-A is equivalent to accomplishing the actions specified in paragraph (g) of this AD. No further change to this AD is necessary in this regard.

Request To Clarify Paragraph (j) of the Proposed AD

Delta requested clarification of paragraph (j) of the proposed AD, which provides credit for previous actions. Delta asserted that the language currently used only allows credit if Airbus Canada Limited Partnership A220 Service Bulletin BD500-538009, Issue 001, dated May 9, 2022, is used. Delta further stated that paragraph (j) of the proposed AD fails to explicitly allow credit for actions completed in accordance with Transport Canada AD CF-2022-04 (which is referred to as the appropriate source of information for doing the actions required by paragraph (g) of the proposed AD). If the intent is to allow credit for either corrective action accomplished before the effective date of the FAA AD, then Delta asserted that both sources of information should be identified in paragraph (j) of the proposed AD.

The FAA acknowledges Delta's request and agrees to clarify. Paragraph (f) of this AD states to accomplish the required actions within the compliance times specified, “unless already done.” Therefore, if operators have accomplished the actions required for compliance with this AD before the effective date of this AD, no further action is necessary. No change is necessary to this AD in this regard.

Conclusion

This product has been approved by the aviation authority of another country and is approved for operation in the United States. Pursuant to the FAA's bilateral agreement with this State of Design Authority, it has notified the FAA of the unsafe condition described in the MCAI referenced above. The FAA reviewed the relevant data, considered the comments received, and determined that air safety requires adopting this AD as proposed. Accordingly, the FAA is issuing this AD to address the unsafe condition on this product. Except for minor editorial changes, and any other changes described previously, this AD is adopted as proposed in the second SNPRM. None of the changes will increase the economic burden on any operator.

Material Incorporated by Reference Under 1 CFR Part 51

Transport Canada AD CF-2022-04 specifies procedures for inspecting for paint on the lightning diverter strips on the nose radome, and replacing the nose radome if the lightning diverter strips are painted.

The FAA also reviewed SB BD500-538009, Issue 002. This material specifies procedures for inspecting for paint on the lightning diverter strips on the nose radome, and replacing and painting the nose radome if the lightning diverter strips are painted.

The FAA also reviewed ASRP Task BD500-A-J53-81-80-01AAA-664A-A. This material describes procedures for repair of the nose radome by replacing the lightning diverter strips with new, unpainted diverter strips.

This material is reasonably available because the interested parties have access to it through their normal course of business or by the means identified in the ADDRESSES section.

Costs of Compliance

The FAA estimates that this AD affects 7 airplanes of U.S. registry. The FAA estimates the following costs to comply with this AD:

Estimated Costs for Required Actions
Labor cost | Parts cost | Cost per product | Cost on U.S. operators
6 work-hours × $85 per hour = $510 | $0 * | $510 | $3,570
* The FAA has received no definitive data on which to base the parts cost estimate for the nose radome replacement.

The FAA has included all known costs in its cost estimate. According to the manufacturer, however, some or all of the costs of this AD may be covered under warranty, thereby reducing the cost impact on affected operators.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

2025-02-06 Airbus Canada Limited Partnership (Type Certificate Previously Held by C Series Aircraft Limited Partnership (CSALP); Bombardier, Inc.): Amendment 39-22939; Docket No. FAA-2022-1650; Project Identifier MCAI-2022-00210-T.

(a) Effective Date

This airworthiness directive (AD) is effective April 9, 2025.

(b) Affected ADs

None.

(c) Applicability

This AD applies to Airbus Canada Limited Partnership Model BD-500-1A10 and BD-500-1A11 airplanes, certificated in any category, with a nose radome having part number (P/N) C01204101-007 or P/N C01204101-009 and a serial number (S/N) S456997, S/N S570556, S/N S626945, S/N S866894, S/N T099675, S/N T471773, orS/N T595935.

(d) Subject

Air Transport Association (ATA) of America Code 53, Fuselage.

(e) Unsafe Condition

This AD was prompted by a report that the nose radome lightning diverter strips on certain aircraft were painted in production; paint on the diverter strips can compromise the nose radome lightning protection. The FAA is issuing this AD to address reduced effectiveness of the diverter strips, which can lead to the puncture of the nose radome by lightning and potential arc attachment to antennas, structures, and other equipment in the area of the nose radome. The unsafe condition, if not addressed, could result in damage to the localizer or glideslope antennas, and consequent loss of instrument landing system localizer inputs or deviation information.

(f) Compliance

Comply with this AD within the compliance times specified, unless already done.

(g) Requirements

Except as specified in paragraph (h) of this AD: Comply with all required actions and compliance times specified in, and in accordance with, Transport Canada AD CF-2022-04, dated February 14, 2022 (Transport Canada AD CF-2022-04).

(h) Exceptions to Transport Canada AD CF-2022-04

(1) Where Transport Canada AD CF-2022-04 refers to its effective date, this AD requires using the effective date of this AD.

(2) Where Transport Canada AD CF-2022-04 specifies removing and installing a nose radome using certain aircraft maintenance publication data modules, this AD also allows accomplishing those actions in accordance with Airbus Canada Limited Partnership A220 Service Bulletin BD500-538009, Issue 002, dated June 2, 2022, with the exception that the painting of the nose radome can be accomplished prior to installation, and that the following nose radome assembly part numbers may be used: P/N C01204101-003, P/N C01204101-005,P/N C01204101-007, P/N C01204101-009, and P/N C01204101-011.

(3) Where Transport Canada AD CF-2022-04 specifies removing and installing a nose radome using certain aircraft maintenance publication data modules, this AD also allows repairing nose radomes by replacing the lightning diverter strips with new, unpainted lightning diverter strips, in accordance with (Airbus Canada Limited Partnership) A220 (Aircraft Structure Repair Publication (ASRP)) Task BD500-A-J53-81-80-01AAA-664A-A, Issue 004, dated January 17, 2024.

(4) Where Airbus Canada Limited Partnership A220 Service Bulletin BD500-538009, Issue 002, dated June 2, 2022, specifies to remove and discard the nose radome, this AD allows repairing removed nose radomes by replacing the lightning diverter strips with new, unpainted lightning diverter strips, in accordance with (Airbus Canada Limited Partnership) A220 (ASRP) Task BD500-A-J53-81-80-01AAA-664A-A, Issue 004, dated January 17, 2024.

(i) Parts Installation Limitation

As of the effective date of this AD, no person may install, on any airplane, a nose radome having P/N C01204101-007 or P/N C01204101-009 and a S/N S456997, S/N S570556, S/N S626945, S/N S866894, S/N T099675, S/N T471773, or S/N T595935 unless the actions required by paragraph (g) of this AD have been accomplished on the nose radome.

(j) Credit for Previous Actions

This paragraph provides credit for actions required by paragraph (g) of this AD, if those actions were performed before the effective date of this AD using Airbus Canada Limited Partnership A220 Service Bulletin BD500-538009, Issue 001, dated May 9, 2022.

(k) Additional AD Provisions

The following provisions also apply to this AD:

(1) Alternative Methods of Compliance (AMOCs): The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the certification office, send it to the address identified in paragraph (l)(1) of this AD. Information may be emailed to: AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, AIR-520, Continued Operational Safety Branch, FAA; or Transport Canada; or Airbus Canada Limited Partnership's Transport Canada Design Approval Organization (DAO). If approved by the DAO, the approval must include the DAO-authorized signature.

(3) Required for Compliance (RC): Except as required by paragraph (k)(2) of this AD, if any material contains procedures or tests that are identified as RC, those procedures and tests must be done to comply with this AD; any procedures or tests that are not identified as RC are recommended. Those procedures and tests that are not identified as RC may be deviated from using accepted methods in accordance with the operator's maintenance or inspection program without obtaining approval of an AMOC, provided the procedures and tests identified as RC can be done and the airplane can be put back in an airworthy condition. Any substitutions or changes to procedures or tests identified as RC require approval of an AMOC.

(l) Additional Information

(1) For more information about this AD, contact Steven Dzierzynski, Aviation Safety Engineer, FAA, 1600 Stewart Avenue, Suite 410, Westbury, NY 11590; telephone 516-228-7300; email 9-avs-nyaco-cos@faa.gov.

(2) Material identified in this AD that is not incorporated by reference is available at the addresses specified in paragraphs (m)(3) of this AD.

(m) Material Incorporated by Reference

(1) The Director of the Federal Register approved the incorporation by reference of the material listed in this paragraph under 5 U.S.C. 552(a) and 1 CFR part 51.

(2) You must use this material as applicable to do the actions required by this AD, unless this AD specifies otherwise.

(i) (Airbus Canada Limited Partnership) A220 (Aircraft Structure Repair Publication) Task BD500-A-J53-81-80-01AAA-664A-A, Issue 004, dated January 17, 2024.

(ii) Airbus Canada Limited Partnership A220 Service Bulletin BD500-538009, Issue 002, dated June 2, 2022.

(iii) Transport Canada AD CF-2022-04, dated February 14, 2022.

(3) For Airbus Canada Limited Partnership material identified in this AD, contact Airbus Canada Limited Partnership, 13100 Henri-Fabre Boulevard, Mirabel, Québec, J7N 3C6, Canada; telephone 450-476-7676; email a220_crc@abc.airbus; website a220world.airbus.com.

(4) For Transport Canada material identified in this AD, contact Transport Canada, Transport Canada National Aircraft Certification, 159 Cleopatra Drive, Nepean, Ontario K1A 0N5, Canada; telephone 888-663-3639; email TC.AirworthinessDirectives-Consignesdenavigabilite.TC@tc.gc.ca; website tc.canada.ca/en/aviation.

(5) You may view this material at the FAA, Airworthiness Products Section, Operational Safety Branch, 2200 South 216th St., Des Moines, WA. For information on the availability of this material at the FAA, call 206-231-3195.

(6) You may view this material at the National Archives and Records Administration (NARA). For information on the availability of this material at NARA, visit www.archives.gov/federal-register/cfr/ibr-locations or email fr.inspection@nara.gov.

Issued on January 17, 2025.
Suzanne Masterson,
Deputy Director, Integrated Certificate Management Division, Aircraft Certification Service.

[FR Doc. 2025-03548 Filed 3-4-25; 8:45 am]

BILLING CODE 4910-13-P